DEPARTMENT OF COMMERCE

National Oceanic and Atmospheric Administration

RIN 0648-XG641

Fishing Capacity Reduction Program for the Pacific Coast Groundfish Fishery

AGENCY: National Marine Fisheries Service (NMFS), National Oceanic and Atmospheric Administration, Commerce.

ACTION: Notice of fee rate adjustment.

SUMMARY: NMFS issues this notice to decrease the fee rate to 4.0 percent for the Pacific Coast Groundfish fee-share fishery to repay the $28,428,719 groundfish sub-loan of the $35,662,471 reduction loan that financed the Pacific Coast Groundfish fishing capacity reduction program. NMFS annually recalculates the fee rate that will be reasonably necessary to ensure reduction loan repayment within the specified 30-year term. NMFS has determined that the current fee rate of 4.5 percent for the groundfish fishery is projected to collect more than the annual amortization amount needed for 2019.

DATES: The fee rate decrease for The Pacific Coast Groundfish Fishery program will begin on landings starting January 1, 2019. The first due date for fee payments with the decreased rate will be February 14, 2019.

ADDRESSES: Send questions about this notice to Michael A. Sturtevant, Acting Chief, Financial Services Division, National Marine Fisheries Service, 1315 East-West Highway, Silver Spring, MD 20910-3282.

FOR FURTHER INFORMATION CONTACT: Elaine Saiz, (301) 427-8752 or elaine.saiz@noaa.gov.

SUPPLEMENTARY INFORMATION: Background Sections 312(b) through (e) of the Magnuson-Stevens Fishery Conservation and Management Act (16 U.S.C. 1861a(b) through (e)) generally authorizes fishing capacity reduction programs. In particular, section 312(d) authorizes industry fee systems for repaying reduction loans that finance reduction program. Subpart L of 50 CFR part 600 is the framework rule generally implementing section 312(b) through (e). Sections 1111 and 1112 of the Merchant Marine Act, 1936 (46 App. U.S.C. 1279f and 1279g) generally authorizes reduction loans.

Enacted on February 20, 2003, section 212 of Division B, Title II, of Public Law 108-7 (section 212) specifically authorizes a fishing capacity reduction program for the limited entry trawl fishery under the Pacific Coast Groundfish Fishery Management Plan whose permits, excluding those registered to whiting catcher-processors, are endorsed for trawl gear operation (reduction fishery).

The objective of the reduction program was to reduce the number of vessels and permits endorsed for the operation of groundfish trawl gear. The program also involved corollary fishing capacity reduction in the California, Oregon, and Washington fisheries for Dungeness crab and pink shrimp and the sub-loans for these state fisheries have all been repaid.

NMFS proposed the implementing notice on May 28, 2003 (68 FR 31653) and published the final notice on July 18, 2003 (68 FR 42613). NMFS disbursed a $28,428,719 reduction loan repayable by fees from the groundfish fishery. NMFS published in the Federal Register on July 13, 2005 (70 FR 40225), the final rule to implement the industry fee system for repaying the program's reduction loan. The regulations implementing the program are located at § 600.1012 of 50 CFR part 600 subpart M. On August 8, 2005, NMFS published, in the Federal Register (70 FR 45695), a notice of the fee effective date and established September 8, 2005 as the effective date when fee collection and loan repayment began.

II. Purpose

The purpose of this notice is to adjust, in accordance with § 600.1013(b), the fee rate for the groundfish fishery. Section 600.1013(b) directs NMFS to recalculate the fee rate that will be reasonably necessary to ensure reduction loan repayment within the specified 30-year term. NMFS has determined that the current fee rate of 4.5 percent for the groundfish fishery is projected to collect more than the annual amortization amount needed for 2019. Therefore, NMFS is decreasing the fee rate to 4.0 percent for all landings beginning January 1, 2019. As of November 16, 2018, the outstanding balance on the groundfish fishery sub-loan was $21,075,537.

Fish buyers may continue to disburse collected fee deposits to NMFS by using www.pay.gov (http://www.pay.gov) or mail payments to NOAA Fisheries Pacific Coast Groundfish Buyback, P.O. Box 979059, St. Louis, MO 63197-9000. Fish buyers must include the fee collection report with the fee payment. Fish buyers using www.pay.gov (http://www.pay.gov will find an electronic fee collection report form. Fish buyers not using www.pay.gov may also access the NMFS website for a copy of the fee collection report at: https://www.fisheries.noaa.gov/national/funding-and-financial-services/pacific-coast-groundfish-buyback.

III. Notice

The new 4.0 percent fee rate for the groundfish fishery will begin for all landings starting January 1, 2019. After this date, all groundfish-program fish sellers paying fees fishery shall begin paying groundfish program fees at the revised rate. After this date, all fees received by NMFS for the groundfish fishery shall be subject to the new fee rates regardless of the applicable fee month. The first due date for fee payments with the decreased rate will be February 14, 2019.

Fee collection and submission shall follow previously established methods in § 600.1013 of the framework rule and in the final fee rule published in the Federal Register on July 13, 2005 (70 FR 40225).

Authority: The authority for this action is Pub. L. 107 206, Pub. L. 108 7, 16 U.S.C. 1861a (b) through (e), and 50 CFR 600.1000 et seq.

Dated: November 28, 2018.
Samuel D. Rauch III,
Deputy Assistant Administrator for Regulatory Programs, National Marine Fisheries Service.

[FR Doc. 2018-26207 Filed 11-30-18; 8:45 am]

BILLING CODE 3510-22-P